ENVIRONMENTAL PROTECTION AGENCY

[OPPTS-42214; FRL-6786-6]

Sunset Date/Status Table of TSCA Section 4 and 12(b) Activities; Notice of Availability

AGENCY: Environmental Protection Agency (EPA).

ACTION: Notice.

SUMMARY: This notice announces the public availability, including via the Internet, of a table listing chemical substances and mixtures that are and/or have been the subject of final test rules and/or enforceable consent agreements/orders (ECAs) issued by EPA under section 4 of the Toxic Substances Control Act (TSCA) since the inception of the TSCA Existing Chemicals Testing Program. The table, which will be updated on a continuing basis, is expected to serve as a tool to assist persons in complying with TSCA. The information that is contained in the table for each of the listed chemical substances or mixtures includes the date(s) that TSCA section 4 testing, reimbursement, and reporting requirements and/or TSCA section 4-triggered TSCA section 12(b) export notification requirements have terminated (“sunset”) or have been calculated to sunset, or some other TSCA section 4 or TSCA section 4-triggered TSCA section 12(b) status is indicated.

DATES: Comments, identified by docket control number OPPTS-42214, must be received on or before June 18, 2002.

ADDRESSES: Comments may be submitted by mail, electronically, or in person. Please follow the detailed instructions for each method as provided in Unit I. of the SUPPLEMENTARY INFORMATION. To ensure proper receipt by EPA, it is imperative that you identify docket control number OPPTS-42214 in the subject line on the first page of your response.

FOR FURTHER INFORMATION CONTACT: For general information contact: Barbara Cunningham, Acting Director, Environmental Assistance Division, Office of Pollution Prevention and Toxics (7401), Environmental Protection Agency, 1200 Pennsylvania Ave., NW., Washington, DC 20460; telephone number: (202) 554-1404; e-mail address: TSCA-Hotline@epa.gov.

For technical information contact: Kathy Calvo, Chemical Control Division (7405), Office of Pollution Prevention and Toxics, Environmental Protection Agency, 1200 Pennsylvania Ave., NW., Washington, DC 20460; telephone number: (202) 260-6229; e-mail address: calvo.kathy@epa.gov.

SUPPLEMENTARY INFORMATION:

I. General Information

A. Does this Action Apply to Me?

This action is directed to the public in general and may be of particular interest to persons who manufacture (defined by statute to include import), process, and/or export chemical substances and/or mixtures. In view of the fact that other entities may also be interested, the Agency has not attempted to describe all the specific entities that may be affected by this action. If you have any questions regarding the applicability of this action to a particular entity, consult the technical person listed under FOR FURTHER INFORMATION CONTACT.

B. How Can I Get Additional Information, Including Copies of this Document or Other Related Documents?

1. Electronically. You may obtain electronic copies of this document from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

You may view and download the current table of sunset dates from the Home Page of the Chemical Information and Testing Branch by linking to the document at http://www.epa.gov/opptintr/chemtest/index.htm or by going directly to the web site at http://www.epa.gov/opptintr/chemtest/sunset.htm. A detailed description of the table is also found at this site.

2. TSCA Hotline. Copies of this document and the current table of sunset dates are available from the EPA's TSCA Assistance Information Service (TSCA Hotline). For information about obtaining these documents through the TSCA Hotline, see “For General Information Contact” listed under FOR FURTHER INFORMATION CONTACT.

3. In person. The Agency has established an official record for this action under docket control number OPPTS-42214. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket control number OPPTS-42214 in the subject line on the first page of your response.

1. By mail. Submit your comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. You may submit your comments electronically by e-mail to: oppt.ncic@epa.gov, or mail your computer disk to the address identified in this unit. Do not submit any information electronically that you consider to be CBI. Electronic comments must be submitted as an ASCII file avoiding the use of special characters and any form of encryption. Comments and data will also be accepted on standard disks in WordPerfect 6.1/8.0 or ASCII file format. All comments in electronic form must be identified by docket control number OPPTS-42214. Electronic comments may also be filed online at many Federal Depository Libraries.

D. How Should I Handle CBI Information that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person listed under FOR FURTHER INFORMATION CONTACT.

E. What Should I Consider as I Prepare My Comments for EPA?

We invite you to provide your views on the this action, including new approaches we have not considered, possible unintended consequences, and any data or information that you would like the Agency to consider. You may find the following suggestions helpful for preparing your comments:

1. Explain your views as clearly as possible.

2. Describe any assumptions that you used.

3. Provide copies of any technical information and/or data you used that support your views.

4. Provide specific examples to illustrate your concerns.

5. Offer alternative ways to improve this notice.

6. Make sure to submit your comments by the deadline in this notice.

7. To ensure proper receipt by EPA, be sure to identify the docket control number assigned to this action in the subject line on the first page of your response. You may also provide the name, date, and Federal Register citation.

II. What Action is the Agency Taking?

EPA is announcing the availability of a table entitled Sunset Date/Status of TSCA Section 4 Testing, Reimbursement and Reporting Requirements and TSCA Section 4-Triggered 12(b) Export Notification Requirements. EPA is making this table available to the public via the Internet, TSCA hotline, and TSCA Nonconfidential Information Center (NCIC or TSCA Docket) so that the information contained in it will be available soon after updating by EPA. For the purposes of complying with TSCA section 4 and TSCA section 4-triggered TSCA section 12(b) requirements, the applicability of a particular TSCA section 4 action to a given person is dependent solely on the final requirements specified for the chemical substance(s) and mixture(s) identified in final TSCA section 4 and/or section 12(b) actions published in the Federal Register. The table can be considered current as of the date specified at the top of the table. For the status of final TSCA section 4 and TSCA section 4-triggered section 12(b) actions taken after this date, consult the Federal Register. EPA plans to update and re-post/reissue this table on an ongoing basis in order to make the most current information available to the public in a timely manner.

List of Subjects

Environmental protection, Chemicals, Reporting and recordkeeping requirements.

Dated: June 7, 2001.
Charles M. Auer,
Director, Chemical Control Division, Office of Pollution Prevention and Toxics.

[FR Doc. 01-15295 Filed 6-15-01; 8:45 am]

BILLING CODE 6560-50-S